DEPARTMENT OF EDUCATION

(CFDA No.: 84.291R )

Bilingual Education: Systemwide Improvement Grants; Notice Inviting Applications for New Awards for Fiscal Year (FY) 2000

Note to Applicants: This notice is a complete application package. Together with the statute authorizing the program and the Education Department General Administrative Regulations (EDGAR), this notice contains all of the information, application forms, and instructions needed to apply for an award under this program. The statutory authorization for this program, and the application requirements that apply to this competition, are contained in sections 7115 and 7116 of the Elementary and Secondary Education Act of 1965, as amended by the Improving America's Schools Act of 1994 (Pub. L. 103-382, enacted October 20, 1994 (the Act) (20 U.S.C. 7425 and 7426)).

Purpose of Program: This program provides grants to implement districtwide bilingual education programs or special alternative instruction programs to improve, reform, and upgrade relevant programs and operations, within an entire local educational agency (LEA), that serve a significant number of limited English proficient (LEP) children and youth in one or more LEAs with significant concentrations of these children and youth.

Eligible Applicants: (a) One or more LEAs; or (b) one or more LEAs in collaboration with an institution of higher education, community-based organizations, other LEAs, or a State educational agency.

Deadline for Transmittal of Applications: March 31, 2000.

Deadline for Intergovernmental Review: May 30, 2000.

Available Funds: $5 million.

Estimated Range of Awards: $350,000-$650,000.

Estimated Average Size of Awards: $500,000.

Estimated Number of Awards: 10.

Note: The Department is not bound by any estimates in this notice.

Project Period: 60 months.

Page Limit: The application narrative is where you, the applicant, address the selection criteria reviewers use to evaluate your application. You must limit the application narrative to the equivalent of no more than 75 pages or 2,000 characters per page for the page limit specified, using the following standards:

• A page is 8.5 inches x 11 inches, on one side only, with 1-inch margins at the top, bottom, and both sides. For electronic submission a page equals 2,000 characters; and the Department of Education (we) will convert any charts, tables, figures, and graphs from a page equivalency to a character count.

• Double space (no more than three lines per vertical inch) all text in the application narrative, including titles, headings, footnotes, quotations, references, and captions, as well as all text in charts, tables, figures, and graphs.

• Use a font that is either 12-point or larger or no smaller than 10 pitch (characters per inch).

The page and character count limits do not apply to the Application for Federal Education Assistance Form (ED 424); the Budget Information—Non-Construction Programs Form (ED 524), including the itemized budget; the other application forms; the assurances and certifications; or the one-page abstract, the table of contents, the resumes, the bibliography, or the letters of support.

If, to meet the page limit, you use more than one side of the page, you use a larger page, or you use a print size, spacing, or margins smaller than the standards in this notice, we will reject your application.

Applicable Regulations: (a) The Education Department General Administrative Regulations (EDGAR) in 34 CFR parts 74, 75, 77, 79, 80, 81, 82, 85, and 86; and (b) 34 CFR part 299.

Description of Program

Funds under this program may be used during the first 12 months exclusively for activities preparatory to the delivery of services. Funds may be used to improve the education of LEP students and their families by reviewing, restructuring, and upgrading—

(A) Educational goals, curriculum guidelines and content, standards and assessments;

(B) Personnel policies and practices including recruitment, certification, staff development, and assignment;

(C) Student grade-promotion and graduation requirements;

(D) Student assignment policies and practices;

(E) Family education programs and parent outreach and training activities designed to assist parents to become active participants in the education of their children;

(F) The instructional program for limited English proficient students by identifying, acquiring, and upgrading curriculum, instructional materials, educational software, and assessment procedures and, if appropriate, applying educational technology;

(G) Tutorials and academic or career counseling for children and youth of limited-English proficiency; and

(H) Such other activities, related to the purposes of this part, as the Secretary may approve.

Priorities

Absolute Priority: The priority in the notice of final priority for this program, as published in the Federal Register on October 30, l995 (60 FR 55246-55247) applies to this competition.

Under 34 CFR 75.105(c)(3) and section 7115(a) of the Act, the Secretary gives an absolute preference to applications that meet the following priority. The Secretary funds under this competition only applications that meet this absolute priority:

Projects that serve only LEAs in which the number of LEP students, in each LEA served, is at least 1,000 or at least 25 percent of the total student enrollment.

Competitive Priority: Within the absolute priority specified in this notice, the Secretary under 34 CFR 75.105(c)(2)(i) and 34 CFR 299.3(b) gives preference to applications that meet the following competitive priority. The Secretary awards 5 points to an application that meets this competitive priority. These points are in addition to any points the application earns under the selection criteria for the program:

Projects that will contribute to systemic educational reform in an Empowerment Zone, including a Supplemental Empowerment Zone, or an Enterprise Community designated by the United States Department of Housing and Urban Development or the United States Department of Agriculture, and are made an integral part of the Zone's or Community's comprehensive community revitalization strategies.

A list of areas that have been designated as Empowerment Zones and Enterprise Communities is provided at the end of this notice.

Invitational Priorities: Within the absolute priority specified in this notice, the Secretary is particularly interested in applications that meet one or both of the following invitational priorities. However, under 34 CFR 75.105(c)(1) an application that meets one or both of these invitational priorities does not receive competitive or absolute preference over other applications.

Invitational Priority 1—Safe and Drug-Free Schools: Projects that contribute to the creation and maintenance of a safe and drug-free learning environment for limited English proficient students by being made an integral part of a comprehensive school safety plan.

Information on developing and implementing a comprehensive school safety plan is found in the 1998 Annual Report on School Safety prepared by the U.S. Departments of Education and Justice.

Invitational Priority 2—Professional Development: Applicants that consider the U.S. Department of Education Professional Development Principles in planning and designing a Systemwide Improvement Grant project.

These principles call for educator professional development that focuses on teachers as central to student learning, yet includes all other members of the school community; focuses on individual, collegial, and organizational improvement; respects and nurtures the intellectual and leadership capacity of teachers, principals, and others in the school community; reflects best available research and practice in teaching, learning, and leadership; enables teachers to develop further expertise in subject content, teaching strategies, uses of technologies, and other essential elements in teaching to high standards; promotes continuous inquiry and improvement embedded in the daily life of schools; is planned collaboratively by those who will participate in and facilitate that development; requires substantial time and other resources; is driven by a coherent long-term plan; is evaluated ultimately on the basis of its impact on teacher effectiveness and student learning; and uses this assessment to guide subsequent professional development efforts.

Selection Criteria

(a)(1) The Secretary uses the following selection criteria in 34 CFR 75.210 and sections 7116 and 7123 of the Act to evaluate applications for new grants under this competition.

(2) The maximum score for all of these criteria is 100 points.

(3) The maximum score for each criterion is indicated in parentheses.

(b) The criteria—(1) Extent of need for the project. (15 points) The Secretary considers the need for the proposed project. In determining the need for the proposed project, the Secretary considers the following factors:

(i) The number of children and youth of limited-English proficiency in the school district to be served

(ii) The characteristics of such children and youth, such as—

(A) Language spoken;

(B) Dropout rates;

(C) Proficiency in English and the native language;

(D) Academic standing in relation to the English-proficient peers of those children and youth; and

(E) If applicable, the recency of immigration.

(Authority: 20 U.S.C. 7426(g)(1)(A))

(2) Project Design. (35 points) (i) The Secretary considers the quality of the design of the proposed project. In determining the quality of the design of the proposed project, the Secretary considers the following factors:

(i) The extent to which the project design:

(A) Relates to the linguistic and academic needs of the children and youth of limited-English proficiency to be served;

(B) Is coordinated with other programs under this Act, the Goals 2000: Educate America Act and other Acts, as appropriate in accordance with section 14306 of this Act;

(C) Involves the parents of the children and youth of limited-English proficiency to be served;

(D) Ensures accountability in achieving high academic standards; and

(E) Promotes coordination of services for the children and youth of limited-English proficiency to be served and their families.

(ii) If appropriate, the quality of the applicant's proposal to collaborate with institutions of higher education, community-based organizations, local or State educational agencies, private schools, nonprofit organizations, or businesses in carrying out the project.

(iii) The extent to which the project will be integrated with the overall educational program.

(iv) The extent to which the project will provide for training for personnel participating in or preparing to participate in the program which will assist such personnel in meeting State and local certification requirements and that, to the extent possible, will award college or university credit for such training.

(Authority: 20 U.S.C. 7426(g)(1)(B)and (c), (2)(B)(i), and (i)(5))

(3) Proficiency in English and another language. (5 points) The Secretary reviews each application to determine the extent to which the project will provide for the development of bilingual proficiency both in English and another language for all participating students.

(Authority: 20 U.S.C. 7426(i)(a)(1)

(4) Quality of the management plan. (10 points) The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(Authority: 34 CFR 75.210(g)(1) and (2)(i) and (iv))

(5) Quality of key personnel. (10 points) The Secretary reviews each application to determine how well the project meets the following requirements:

(i) Employment of teachers in the proposed program that, individually or in combination, are proficient in English, including written, as well as oral, communication skills.

(ii) Use of qualified personnel, including personnel who are proficient in the language or languages used in instruction.

(Authority: 20 U.S.C. 7426(g)(1)(E) and (h)(1))

(6) Adequacy of resources. (5 points) The Secretary considers the adequacy of resources for the proposed project. In determining the adequacy of resources for the proposed project, the Secretary considers the following factors:

(i) The extent to which the budget is adequate to support the proposed project.

(ii) The extent to which costs are reasonable in relation to the objectives, design, and potential significance of the proposed project.

(Authority: 34 CFR 75.210(f)(1) and (2)(iii)-(iv)).

(7) Evaluation plan. (15 points) The Secretary reviews each application to determine how well the proposed project's evaluation will meet the following requirements:

(i) Student evaluation and assessment procedures must be valid, reliable, and fair for limited English proficient students.

(ii) The evaluation must include—

(A) How students are achieving the State student performance standards, if any, including data comparing children and youth of limited-English proficiency with nonlimited English proficient children and youth with regard to school retention, academic achievement, and gains in English (and, if applicable, native language) proficiency;

(B) Program implementation indicators that provide information for informing and improving program management and effectiveness, including data on appropriateness of curriculum in relationship to grade and course requirements, appropriateness of program management, appropriateness of the program's staff professional development, and appropriateness of the language of instruction;

(C) Program context indicators that describe the relationship of the activities funded under the grant to the overall school program and other Federal, State, or local programs serving children and youth of limited English proficiency.

(Authority: 20 U.S.C. 7426(h)(3) and 7433 (c)(1)-(3))

(8) Capacity building, dissemination, and serving students with disabilities. (5 points) The Secretary reviews each application to determine the extent to which:

(i) Limited English proficient students who are disabled will be identified and served in accordance with the requirements of the Individuals with Disabilities Education Act (20 U.S.C. 1400 et seq.);

(ii) The assistance provided under the application will contribute toward building the capacity of the applicant to provide a program on a regular basis, similar to that proposed for assistance, which will be of sufficient size, scope, and quality to promise significant improvement in the education of students of limited-English proficiency;

(iii) The applicant will have the resources and commitment to continue the program when assistance is reduced or no longer available; and

(iv) The applicant will provide for utilization of the State and national dissemination sources for program design and in dissemination of results and products.

(Authority: 20 U.S.C. 7426(h)(3), (5), and (6))

Intergovernmental Review of Federal Programs

This program is subject to the requirements of Executive Order 12372 (Intergovernmental Review of Federal Programs) and the regulations in 34 CFR part 79.

The objective of the Executive order is to foster an intergovernmental partnership and to strengthen federalism by relying on State and local processes for State and local government coordination and review of proposed Federal financial assistance.

Applicants must contact the appropriate State Single Point of Contact to find out about, and to comply with, the State's process under Executive order 12372. Applicants proposing to perform activities in more than one State should immediately contact the Single Point of Contact for each of those States and follow the procedure established in each State under the Executive order.

If you want to know the name and address of any State Single Point of Contact (SPOC), see the list published in the Federal Register on April 28, 1999 (64 FR 22963), or you may view the latest SPOC list on the OMB Web site at the following address: http://www.whitehouse.gov/omb/grants.

In States that have not established a process or chosen a program for review, State, areawide, regional, and local entities may submit comments directly to the Department.

Any State Process Recommendation and other comments submitted by a State Single Point of Contact and any comments from State, areawide, regional, and local entities must be mailed or hand-delivered by the date indicated in this notice to the following address: The Secretary, E.O. 12372—CFDA# 84.291R, U.S. Department of Education, 400 Maryland Avenue, SW., Room 7E200, Washington, DC 20202-0125.

Proof of mailing will be determined on the same basis as applications (see 34 CFR 75.102). Recommendations or comments may be hand-delivered until 4:30 p.m. (Eastern time) on the date indicated in this notice.

Please Note That the Above Address is not the Same ADDRESS as the one to Which the Applicant Submits its Completed Application. Do not send applications to the above address.

Instructions for Transmitting Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The US Department of Education is conducting a limited pilot project of electronic submission of discretionary grant applications for selected programs. Bilingual Education: Systemwide Improvement Grants (CFDA No. 84.291R) is one of the programs included in the pilot project. If you are an applicant under Bilingual Education: Systemwide Improvement Grants, you may submit your application to us in either electronic or paper format.

The pilot project involves the use of the Electronic Grant Application System (e-GAPS) portion of the Grant Administration and Payment System (GAPS). We request your participation in the e-GAPS pilot project. By participating you will have an opportunity to have input into the overall design and approach of e-GAPS. At the conclusion of the pilot project, we will evaluate its successfulness and solicit suggestions for improvements.

If you participate as a grant applicant in an e-GAPS pilot, please note the following:

• Your participation is voluntary.

• You will not receive any additional point value or penalty because you submit a grant application in electronic or paper format.

• You can submit all documents electronically, including the Application for Federal Assistance (ED 424), Budget Information—Non-Construction Programs (ED Form No. 524), and all necessary assurances and certifications. We may request that you give us original signatures on forms at a later date.

You may access the electronic grant application for Bilingual Education: Systemwide Improvement Grants at:

http://e-grants.ed.gov

In the Appendix to this notice, we have placed additional information about the e-GAPS pilot project (see Parity Guidelines between Paper and Electronic Applications).

If you want to apply for a grant and be considered for funding, you must meet the following deadline requirements:

(a) If You Send Your Application by Mail:

You must mail the original and two copies of the application on or before the deadline date to:

U.S. Department of Education, Application Control Center, Attention: CFDA# 84,291R, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(b) If You Deliver Your Application by Hand:

You or your courier must hand deliver the original and two copies of the application by 4:30 P.M. (Washington, DC time) on or before the deadline date to:

U.S. Department of Education, Application Control Center, Attention: CFDA# 84.291R, Room 3633, Regional Office Building 3, 7th and D Streets, SW., Washington, DC.

The Application Control Center accepts application deliveries daily between 8:00 a.m. and 4:30 p.m. (Washington, DC time), except Saturdays, Sundays, and Federal holidays. The Center accepts application deliveries through the D Street entrance only. A person delivering an application must show identification to enter the building.

(c) If You Submit Your Application Electronically:

You must submit your grant application through the Internet using the software provided on the e-Grants Web site (http://e-grants.ed.gov) by 4:30 p.m. (Washington, DC time) on the deadline date.

The regular hours of operation of the e-Grants Web site are 6:00 a.m. till 12:00 midnight (Washington, DC time) daily, except Saturdays, Sundays, and Federal holidays. Please note that on Wednesdays the Web site closed for maintenance at 7:00 p.m. (Washington, DC time).

Notes: (1) The U.S. Postal Service does not uniformly provide a dated postmark. Before relying on this method, you should check with your local post office.

(2) If you send your application by mail or deliver it by hand or by a courier service, the Application Control Center will mail a Grant Application Receipt Acknowledgment to you. If you do not receive the notification of application receipt within 15 days from the date of mailing the application, you should call the U.S. Department of Education Application Control Center at (202) 708-9493.

(3) You must indicate on the envelope and—if not provided by the Department—in Item 3 of the Application for Federal Education Assistance (ED 424; revised January 12, 1999) the CFDA number—and suffix letter—of the competition under which you are submitting your application.

(4) If you submit your application through the Internet via the e-Grants Web site, you will receive an automatic acknowledgment when we receive your application.

Application Instructions and Forms:

The appendix to this application contains the following forms and instructions, including a statement regarding estimated public reporting burden, a notice to applicants regarding compliance with section 427 of the General Education Provisions Act (GEPA), a checklist for applicants, and various assurances, certifications, and required documentation:

a. Estimated Burden Statement.

b. Application Instructions.

c. Checklist for Applicants.

d. List of Empowerment Zones and Enterprise Communities.

e. Application for Federal Education Assistance (ED 424) and Instructions.

f. Group Application Certification.

g. Budget Information—Non-Construction Programs (ED 524) and Instructions.

h. Student Data

i. Project Documentation

j. Program Assurances

k. Assurances—Non-Construction Programs (Standard Form 424B) and Instructions.

l. Certifications Regarding Lobbying; Debarment, Suspension and Other Responsibility Matters; and Drug-Free Workplace Requirements (ED 80-0013) and Instructions.

m. Certification Regarding Debarment, Suspension, Ineligibility and Voluntary Exclusion—Lower Tier Covered Transactions (ED 80-0014) and Instructions.

n. Disclosure of Lobbying Activities (Standard Form LLL) and Instructions. This document has been marked to reflect statutory changes. See the notice published in the Federal Register (61 FR 1413) by the Office of Management and Budget on January 19, 1996.

o. Notice to All Applicants (GEPA Requirement) and Instructions (OMB No. 1801-0004).

An applicant may submit information on a photostatic copy of the application forms, assurances, and certifications. However, if an application is submitted in conventional paper form, one copy of the application forms, assurances, and certifications must have an original signature.

All applicants submitting their applications in conventional paper form must submit ONE original signed application, including ink signatures on all forms and assurances, and TWO copies of the application. Please mark each application as original or copy. No grant may be awarded unless a complete application has been received.

FOR FURTHER INFORMATION CONTACT: Lorena Dickerson, Ana Garcia, or Sharon Saez, U.S. Department of Education, 400 Maryland Avenue, SW., Room 5605, Switzer Building, Washington, DC 20202-6510. Telephone: Lorena Dickerson (202) 205-9044, Ana Garcia (202) 205-8077, Sharon Saez (202) 205-9157. E-mail: Lorena_Dickerson@ed.gov; Ana_Garcia@ed.gov; Sharon_Saez@ed.gov. Individuals who use a telecommunications device for the deaf (TDD) may call the Federal Information Relay Service (FIRS) at 1-800-877-8339 between 8 a.m. and 8 p.m., Eastern time, Monday through Friday.

Individuals with disabilities may obtain this notice in an alternate format (e.g., Braille, large print, audiotape, or computer diskette) on request to the contact person listed in the preceding paragraph. Please note, however, that the Department is not able to reproduce in an alternate format the standard forms included in the notice.

Electronic Access to This Document

Anyone may view this document, as well as all other Department of Education documents published in the Federal Register, in text or Adobe Portable Document Format (PDF) on the Internet at either of the following sites: http://ocfo.ed.gov/fedreg.htm; http://www.ed.gov/news.html. To use the PDF you must have the Adobe Acrobat Reader Program with Search, which is available free at either of the preceding sites. If you have questions about using the PDF, call the U.S. Government Printing Office, toll free, at 1-888-293-6498 or in the Washington, DC area at (202) 512-1530.

Note: The official version of this document is the document published in the Federal Register. Free Internet access to the official edition of the Federal Register and the Code of Federal Regulations is available on GPO Access at: http://www.access.gpo.gov/nara/index.html

Program Authority: 20 U.S.C. 7425.
Dated: February 3, 2000.
Art Love,
Acting Director, Office of Bilingual Education and Minority Languages Affairs.

Appendix—Estimated Burden Statement

According to the Paperwork Reduction Act of 1995, no persons are required to respond to a collection of information unless it displays a valid OMB number. The valid OMB control number for this information collection is OMB No. 1885-0537 (Exp. 12/31/2001). The time required to complete this information collection is estimated to average 120 hours per response, including the time to review instructions, search existing data resources, gather the data needed, and complete and review the information collection. If you have any comments concerning the accuracy of the time estimate or suggestions for improving this form, please write to: U.S. Department of Education, Washington, DC 20202-4651.

If you have comments or concerns regarding the status of your individual submission of this form, write directly to: Office of Bilingual Education and Minority Languages Affairs, U.S. Department of Education, 400 Maryland Avenue, SW., Room 5605, Switzer Building, Washington, DC 20202-6510.

Application Instructions

Parity Guidelines Between Paper and Electronic Applications

The Department of Education is conducting a limited pilot project that allows applicants to use an Internet-based electronic system for submitting applications under selected discretionary grant programs. This competition is among those that have an electronic submission option available to all applicants. The system, called e-GAPS (Electronic Grant Application Package System), allows an applicant to submit a grant application to the Department (us) electronically, using a current version of the applicant's Internet browser. To see e-GAPS visit the following address: http://e-grants.ed.gov

Because we want to ensure parity and a similar look between applications transmitted electronically and applications submitted in conventional paper form, e-GAPS has an impact on all applicants under this competition.

E-GAPS is a data-driven system; that is, e-GAPS users will be entering data on-line while completing their applications. This will be more interactive than just e-mailing a soft copy of a grant application to us. If you participate in this voluntary pilot project by submitting an application electronically, the data you enter on-line will go into a database and ultimately will be accessible in electronic form to our reviewers.

However, this pilot project is only the first step in the Department's eventual transition to electronic applications for grants. The pilot project is designed to enable us to evaluate the experience of gathering application data on-line. We will assess the on-line review process separately; so, during this pilot project, we will ultimately review in hard copy all information that we receive.

To help ensure parity and a similar look between electronic and paper copies of grant applications, we are asking each applicant that submits a paper application to adhere voluntarily to the following guidelines:

• Use consistent font throughout your document, with no formatting of any kind (that is, no bolding, underlining, italics, or colored text).

• If you are preparing your application on a conventional typewriter, make sure that the pitch (characters per inch) of the font is consistent throughout your document, and do not use formatting of any kind (for example, underlining or italics).

• For the narrative component, your application should consist of the number and text of each selection criterion followed by the narrative. The text of the selection criterion, if included, does not count against any page or character count limitation. You should append charts, tables, graphs, and graphics of any kind after you have completed the text of the relevant section. We suggest that you begin these items on a separate sheet of paper and refer to them within the text.

Example

1. Please describe your project management plan.

Our project plan is composed of three major components: start-up, fulfillment, and closure. The flow of these components into the stated outcomes for this project is described below and presented in figure 3-1.

• Create all illustrations (including charts, tables, graphs, and pictures) in grayscale only.

• Place a page number at the bottom right of each page beginning with 1; and number your pages consecutively throughout your document.

• At the top right of each page, place the name of the applicant, the applicant's DUNS number (if available), and the CFDA number of the competition.

Abstract

The narrative section should be preceded by a one-page abstract that includes a short description of the population to be served by the project, project objectives, and planned project activities.

Selection Criteria

The narrative should address fully all aspects of the selection criteria in the order listed and should give detailed information regarding each criterion. Do not simply paraphrase the criteria. Do not include resumes or curriculum vitae for project personnel; provide position descriptions instead. Do not include bibliographies, letters of support, or appendices in your application.

Empowerment Zone/Enterprise Community Priority

Applicants that wish to be considered under the competitive priority for Empowerment Zones and Enterprise Communities, as specified in a previous section of this notice, should identify in Section D of the Project Documentation Form the applicable Empowerment Zone or Enterprise Community. The application narrative should describe the extent to which the proposed project will contribute to systemic educational reform in the particular Empowerment Zone or Enterprise Community and be an integral part of the Zone's or Community's comprehensive revitalization strategies. A list of areas that have been designated as Empowerment Zones and Enterprise Communities is provided at the end of this notice.

Table of Contents

The application should include a table of contents listing the various parts of the narrative in the order of the selection criteria. The table should include the page numbers where the parts of the narrative are found.

Budget

A separate budget summary and cost itemization must be provided on the Budget Information Form (ED 524) and in the itemized budget for each project year. Budget line items should be directly related to the activities proposed to achieve the goals and objectives of the project.

Submission of Application to State Education Agency

Section 7116(a)(2) of the authorizing statute (Elementary and Secondary Education Act of 1965, as amended by the Improving America's Schools Act of 1994, Pub. L. 103-382) requires all applicants except schools funded by the Bureau of Indian Affairs to submit a copy of their application to their State educational agency (SEA) for review and comment (20 U.S.C. 7426(a)(2)). Section 75.156 of the Education Department General Administrative Regulations (EDGAR) requires these applicants to submit their application to the SEA on or before the deadline date for submitting the application to the U.S. Department of Education. This section of EDGAR also requires applicants to attach to their application a copy of their letter requesting the SEA to comment on the application (34 CFR 75.156). A copy of this letter should be attached to the Project Documentation Form contained in this application package. Applicants That Do Not Submit a Copy of Their Application to Their State Educational Agency in Accordance with These Statutory and Regulatory Requirements Will Not be Considered for Funding.

Final Application Preparation

Use the Checklist for Applicants provided below to verify that your application is complete. If you submit your application in conventional paper form, provide three copies of the application, including one copy with an original signature on each form that requires the signature of the authorized representative. Do not use elaborate bindings, notebooks, or covers. If you mail your application, the application must be postmarked by the deadline date.

Checklist for Applicants

Order of the Forms and Other Items for the Application

1. Application for Federal Education Assistance Form (ED 424).

2. Group Application Certification Form (if applicable).

3. Budget Information Form (ED 524).

4. Itemized budget for each project year.

5. Student Data Form.

6. Project Documentation Form, including:

Section A—Copy of transmittal letter to SEA (if applicable);

Section B—Documentation of consultation with nonprofit private school officials (if applicable);

Section C—Appropriate box checked;

Section D—Empowerment Zone or Enterprise Community identified (if applicable).

7. Program Assurances Form.

8. Assurances—Non-Construction Programs Form (SF 424B).

9. Certifications Regarding Lobbying; Debarment, Suspension and Other Responsibility Matters; and Drug-Free Workplace Requirements Form (ED 80-0013).

10. Certification Regarding Debarment, Suspension, Ineligibility and Voluntary Exclusion—Lower Tier Covered Transactions Form (ED 80-0014) (if applicable).

11. Disclosure of Lobbying Activities Form (SF-LLL).

12. Notice to All Applicants (GEPA Requirement) (OMB No. 1801-0004).

13. One-page abstract.

14. Table of contents.

15. Application narrative.

Transmittal of the Application

1. By mail or hand delivery: one original and two copies of the application to the U.S. Department of Education Application Control Center; or by electronic transmission: software provided on the e-Grants Web site.

2. One copy to the appropriate State Educational Agency (if applicable).

3. One copy to the appropriate State Single Point of Contact (if applicable).

BILLING CODE 4000-01-P

BILLING CODE 4000-01-C

Project Documentation

Note: Submit the appropriate documents and information as specified below for the following programs: Comprehensive School Grants and Systemwide Improvement Grants.

Section A

A copy of applicant's transmittal letter requesting the appropriate State educational agency to comment on the application. This requirement does not apply to schools funded by the Bureau of Indian Affairs. (See 34 CFR 75.155 and 75.156 below.)

§ 75.155 Review procedure if State may comment on applications: Purpose of §§ 75.156-158.

If the authorizing statute for a program requires that a specific State agency be given an opportunity to comment on each application, the State and the applicant shall use the procedures in §§ 75.156-75.158 for that purpose.

(Authority: 20 U.S.C. 1221e-3(a)(1))

Cross-Reference: See 34 CFR part 79 (Intergovernmental Review of Department of Education Programs and Activities) for the regulations implementing the application review procedures that States may use under E.O. 12372.

(In addition to the requirement in § 75.155 for review by the State educational agency, the application is subject to review by State Executive Order 12372 process. Applicants must complete item 16 of the application face sheet (Standard Form 424, Application for Federal Assistance) by either (a) specifying the date when the application was made available to the State Single Point of Contact for review or (b) indicating that the program has not been selected by the State for review.)

§ 75.156 When an applicant under § 75.155 must submit its application to the State: proof of submission.

(a) Each applicant under a program covered by § 75.155 shall submit a copy of its application to the State on or before the deadline date for submitting its application to the Department.

(b) The applicant shall attach to its application a copy of its letter that requests the State to comment on the application.

(Authority: 20 U.S.C. 1221e-3(a)(1))

Section B

Evidence of compliance with the Federal requirements for participation of students enrolled in nonprofit private schools. (See section 7116(h)(2) of Public Law 103-382 and 34 CFR 75.119, 76.652, and 76.656 below.)

Sec. 7116. Applications.

“(2) in designing the program for which application is made, the needs of children in nonprofit private elementary and secondary schools have been taken into account through consultation with appropriate private school officials and, consistent with the number of such children enrolled in such schools in the area to be served whose educational needs are of the type and whose language and grade levels are of a similar type to those which the program is intended to address, after consultation with appropriate private school officials, provision has been made for the participation of such children on a basis comparable to that provided for public school children.”

(Authority: 20 U.S.C. 7426(h)(2))

§ 75.119 Information needed if private schools participate.

If a program requires that applicant to provide an opportunity for participation of students enrolled in private schools, the application must include the information required of subgrantees under 34 CFR 76.656.

(Approved by the Office of Management and Budget under control number 1880-0513)

(Authority: 20 U.S.C. 1221e-3(a)(1))

§ 76.652 Consultation with representatives of private school students.

(a) An applicant for a subgrant shall consult with appropriate representatives of students enrolled in private schools during all phases of the development and design of the project covered by the application, including consideration of:

(1) Which children will receive benefits under the project;

(2 ) How the children's needs will be identified;

(3) What benefits will be provided;

(4) How the benefits will be provided; and

(5) How the project will be evaluated.

(b) A subgrantee shall consult with appropriate representatives of students enrolled in private schools before the subgrantee makes any decision that affects the opportunities of those students to participate in the project.

(c) The applicant or subgrantee shall give the appropriate representatives a genuine opportunity to express their views regarding each matter subject to the consultation requirements in this section.

(Authority: 20 U.S.C. 1221e-3(a)(1))

§ 76.656 Information in an application for a subgrant.

An applicant for a subgrant shall include the following information in its application:

(a) A description of how the applicant will meet the Federal requirements for participation of students enrolled in private schools.

(b) The number of students enrolled in private schools who have been identified as eligible to benefit under the program.

(c) The number of students enrolled in private schools who will receive benefits under the program.

(d) The basis the applicant used to select the students.

(e) The manner and extent to which the applicant complied with § 76.652 (consultation).

(f) The places and times that the students will receive benefits under the program.

(g) The differences, if any, between the program benefits the applicant will provide to public and private school students, and the reasons for the differences.

(Authority: 20 U.S.C. 1221e-3(a)(1))

Section C

Check the appropriate box below:

• There are no eligible nonprofit private schools in the proposed service delivery area that wish to participate in the project | □
• One or more eligible nonprofit private schools in the proposed service delivery area wish to participate in the project and are listed on the enclosed Student Data form | □
• There are no eligible nonprofit private schools in the proposed service delivery area | □

Section D

If applicable, identify on the line at the right the Empowerment Zone, Supplemental Empowerment Zone, or Enterprise Community that the proposed project will serve. (See the competitive priority and the list of designated Empowerment Zones and Enterprise Communities in previous sections of this application package.)

BILLING CODE 4000-01-P

BILLING CODE 4000-01-C

Notice To All Applicants

The purpose of this enclosure is to inform you about a new provision in the Department of Education's General Education Provisions Act (GEPA) that applies to applicants for new grant awards under Department programs. This provision is Section 427 of GEPA, enacted as part of the Improving America's Schools Act of 1994 (Pub. L. 103-382).

To Whom Does This Provision Apply?

Section 427 of GEPA affects applicants for new grant awards under this program. ALL APPLICANTS FOR NEW AWARDS MUST INCLUDE INFORMATION IN THEIR APPLICATIONS TO ADDRESS THIS NEW PROVISION IN ORDER TO RECEIVE FUNDING UNDER THIS PROGRAM.

(If this program is a State-formula grant program, a State needs to provide this description only for projects or activities that it carries out with funds reserved for State-level uses. In addition, local school districts or other eligible applicants that apply to the State for funding need to provide this description in their applications to the State for funding. The State would be responsible for ensuring that the school district or other local entity has submitted a sufficient section 427 statement as described below.)

What Does This Provision Require?

Section 427 requires each applicant for funds (other than an individual person) to include in its application a description of the steps the applicant proposes to take to ensure equitable access to, and participation in, its Federally-assisted program for students, teachers, and other program beneficiaries with special needs. This provision allows applicants discretion in developing the required description. The statute highlights six types of barriers that can impede equitable access or participation: Gender, race, national origin, color, disability, or age. Based on local circumstances, you should determine whether these or other barriers may prevent your students, teachers, etc., from such access or participation in the Federally-funded project or activity. The description in your application of steps to be taken to overcome these barriers need not be lengthy; you may provide a clear and succinct description of how you plan to address those barriers that are applicable to your circumstances. In addition, the information may be provided in a single narrative, or, if appropriate, may be discussed in connection with related topics in the application.

Section 427 is not intended to duplicate the requirements of civil rights statutes, but rather to ensure that, in designing their projects, applicants for Federal funds address equity concerns that may affect the ability of certain potential beneficiaries to fully participate in the project and to achieve to high standards. Consistent with program requirements and its approved application, an applicant may use the Federal funds awarded to it to eliminate barriers it identifies.

What are Examples of How an Applicant Might Satisfy the Requirement of This Provision?

The following examples may help illustrate how an applicant may comply with Section 427.

(1) An applicant that proposes to carry out an adult literacy project serving, among others, adults with limited English proficiency, might describe in its application how it intends to distribute a brochure about the proposed project to such potential participants in their native language.

(2) An applicant that proposes to develop instructional materials for classroom use might describe how it will make the materials available on audio tape or in braille for students who are blind.

(3) An applicant that proposes to carry out a model science program for secondary students and is concerned that girls may be less likely than boys to enroll in the course, might indicate how it intends to conduct “outreach” efforts to girls, to encourage their enrollment.

We recognize that many applicants may already be implementing effective steps to ensure equity of access and participation in their grant programs, and we appreciate your cooperation in responding to the requirements of this provision.

Estimated Burden Statement for GEPA Requirements

The time required to complete this information collection is estimated to vary from 1 to 3 hours per response, with an average of 1.5 hours, including the time to review instructions, search existing data resources, gather and maintain the data needed, and complete and review the information collection. If you have any comments concerning the accuracy of the time and estimate(s) or suggestions for improving this form, please write to: U.S. Department of Education, Washington, DC 20202-4651.

State Single Point of Contact

(As of April 22, 1999)

Note: In accordance with Executive Order 12372, Intergovernmental Review of Federal Programs, this listing represents the designated State Single Points of Contact (SSPOCs). Because participation is voluntary, some States and Territories no longer participate in the process. These include: Alabama, Alaska, American Samoa, Colorado, Connecticut, Hawaii, Idaho, Kansas, Louisiana, Massachusetts, Minnesota, Montana, Nebraska, New Jersey, Ohio, Oklahoma, Oregon, Pennsylvania, South Dakota, Tennessee, Vermont, Virginia, and Washington.

The jurisdictions not listed no longer participate in the process. However, an applicant is still eligible to apply for a grant or grants even if its respective State, Territory, Commonwealth, etc. does not have a SSPOC.

ARIZONA

Ms. Joni Saad, Arizona State Clearinghouse, 3800 N. Central Avenue, Fourteenth Floor, Phoenix, Arizona 85012, Telephone: (602) 280-1315, FAX: (602) 280-8144, jonis@ep.state.az.us

ARKANSAS

Mr. Tracy L. Copeland, Manager, State Clearinghouse, Office of Intergovernmental Services, Department of Finance and Administration, 1515 W. 7th St., Room 412, Little Rock, Arkansas 72203, Telephone: (501) 682-1074, FAX: (501) 682-5206, tlcopeland@dfa.state.ar.us

CALIFORNIA

Grants Coordination, State Clearinghouse, Office of Planning and Research, 1400 10th Street, Room 121, Sacramento, California 95814, Telephone: (916) 445-0613, FAX: (916) 323-3018, No e-mail address

DELAWARE

Executive Department, Office of the Budget, 540 S. Dupont Highway, Suite 5, Dover, Delaware 19901, Telephone: (302) 739-3326, FAX: (302) 739-5661, No e-mail address

DISTRICT OF COLUMBIA

Mr. Charles Nichols, State Single Point of Contact, Office of Grants Management and Development, 717 14th Street, N.W.—Suite 1200, Washington, D.C. 20005, Telephone: (202) 727-1700 (direct), (202) 727-6537 (secretary), FAX: (202) 727-1617, No ­e-mail address

FLORIDA

Florida State Clearinghouse, Department of Community Affairs, 2555 Shumard Oak Blvd., Tallahassee, Florida 32399-2100, Telephone: (850) 922-5438, FAX: (850) 414-0479, Contact: Ms. Cherie Trainor, (850) 414-5495, cherie.trainor@dca.state.fl.us

GEORGIA

Ms. Deborah Stephens, Coordinator, Georgia State Clearinghouse, 270 Washington Street, S.W.—8th Floor, Atlanta, Georgia 30334, Telephone: (404) 656-7901, ssda@mail.opb.state.ga.us

ILLINOIS

Ms. Virginia Bova, Single Point of Contact, Illinois Department of Commerce and Community Affairs, James R. Thompson Center, 100 West Randolph, Suite 3-400, Chicago, IL 60601, Telephone: (312) 814-6028, FAX: (312) 814-1800

INDIANA

Ms. Allison Becker, State Budget Agency, 212 State House, Indianapolis, Indiana 46204-2796, Telephone: (317) 232-7221 (direct line), FAX: (317) 233-3323, No e-mail address

IOWA

Mr. Steven R. McCann, Division for Community Assistance, Iowa Department of Economic Development, 200 East Grand Avenue, Des Moines, Iowa 50309, Telephone: (515) 242-4719, FAX: (515) 242-4809, steve.mccann.@ided.state.ia.us

KENTUCKY

Mr. Kevin J. Goldsmith, Director, Sandra Brewer, Executive Secretary, Intergovernmental Affairs, Office of the Governor, 700 Capitol Avenue, Frankfort, Kentucky 40601, Telephone: (502) 564-2611, FAX: (502) 564-0437, kgoldmkgosmith@mail.state.ky.us, sbrewer@mail.state.ky.us

MAINE

Ms. Joyce Benson, State Planning Office, 184 State Street, 38 State House Station, Augusta, Maine 04333, Telephone: (207) 287-h3261, FAX: (207) 287-6489, joyce.benson@state.me.us

MARYLAND

Ms. Linda Janey, Manager, Plan & Project Review, Maryland Office of Planning, 301 W. Preston Street—Room 1104, Baltimore, Maryland 21201-2365, Telephone: (410) 767-4490, FAX: (410) 767-4480, linda@mail.op.state.md.us

MICHIGAN

Mr. Richard Pfaff, Southeast Michigan Council of Governments, 660 Plaza Drive—Suite 1900, Detroit, Michigan 48226, Telephone: (313) 961-4266, FAX: (313) 961-4869, pfaf@semcog.org

MISSISSIPPI

Ms. Cathy Mallette, Clearinghouse Officer, Department of Finance and Administration, 550 High Street, 303 Walters Sillers Building, Jackson, Mississippi 39201-3087, Telephone: (601) 359-6762, FAX: (601) 359-6758, No e-mail address

MISSOURI

Ms. Lois Pohl, Federal Assistance Clearinghouse, Office of Administration, P.O. Box 809, Jefferson Building, Room 915, Jefferson City, Missouri 65102, Telephone: (573) 751-4834, FAX: (573) 522-4395, pohll_@mail.oa.state.mo.us

NEVADA

Department of Administration, State Clearinghouse, 209 E. Musser Street, Room 200, Carson City, Nevada 89710, Telephone: (702) 684-0222, FAX: (702) 684-0260, Contact; Ms. Heather Elliot, (702) 684-0209, helliot@govmail.state.nv.us

NEW HAMPSHIRE

Mr. Jeffrey H. Taylor, Director, New Hampshire Office of State Planning, Attn: Intergovernmental Review Process, Mr. Mike Blake, 2½ Beacon Street, Concord, New Hampshire 03301, Telephone: (603) 271-4991, FAX: (603) 271-1728, No e-mail address

NEW MEXICO

Mr. Nick Mandell, Local Government Division, Room 201 Bataan Memorial Building, Santa Fe, New Mexico 87503, Telephone: (505) 827-4991, FAX: (505) 827-4984, No e-mail address

NEW YORK

New York State Clearinghouse, Division of the Budget, State Capitol, Albany, New York 12224, Telephone: (518) 474-1605, Fax: (518) 486-1217, No e-mail address

NORTH CAROLINA

Ms. Jeannette Furney, North Carolina Department of Administration, 116 West Jones Street—Suite 5106, Raleigh, North Carolina 27603-8003, Telephone: (919) 733-7232, FAX: (919) 733-9571, jeannette_furney@mail. doa. state.nc.us

NORTH DAKOTA

North Dakota Single Point of Contact, Office of Intergovernmental Assistance, 600 East Boulevard Avenue Department105, Bismarck, North Dakota 58505-0170, Telephone: (701) 328-2094, FAX: (701) 328-2308, No e-mail address

RHODE ISLAND

Mr. Kevin Nelson, Review Coordinator, Department of Administration, Division of Planning, One Capitol Hill, 4th Floor, Providence, Rhode Island 02908-5870, Telephone: (401) 222-1220 (secretary), FAZ: (401) 222-2093 (direct), knelson@planning.state.ri.us

SOUTH CAROLINA

Ms. Omeagia Burgess, State Single Point of Contact, Budget and Control Board, Office of State Budget, 1122 Ladies Street—12th floor, Columbia, South Carolina 29201, Telephone: (803) 734-0494, FAX: (803) 734-0645, No e-mail address

TEXAS

Mr. Tom Adams, Governors Office, Director, Intergovernmental Coordination P.O. Box 12428, Austin, Texas 78711, Telephone: (512) 463-1771, FAX: (512) 936-2681, tadams@governor.state.tx.us

UTAH

Ms. Carolyn Wright, Utah State Clearinghouse, Office of Planning and Budget, Room 116 State Capitol, Salt Lake City, Utah 84114, Telephone: (801) 538-1535 (direct), FAX: (801) 538-1547, cwright@state.ut.us

WEST VIRGINIA

Mr. Fred Cutlip, Director, Community Development Division, W. Virginia Development Office, Building #6, Room 553, Charleston, West Virginia 25305, Telephone: (304) 558-4010, FAX: (304) 558-3248, fcutlip@wvdo.org

WISCONSIN

Mr. Jeff Smith, Section Chief, Federal/State Relations, Wisconsin Department of Administration, 101 East Wilson Street—6th Floor, P.O. Box 7868, Madison, Wisconsin 53707, Telephone: (608) 267-6931, FAX: (608) 267-6931, sjt@doa.state.wi.us

WYOMING

Ms. Sandy Ross, State Single Point of Contact, Department of Administration and Information, 2001 Capitol Avenue, Room 214, Cheyenne, WY 82002, Telephone: (307) 777-5492, FAX: (307) 777-3696, sross1@missc.state.wy.us

TERRITORIES

GUAM*

Mr. Joseph Rivera, Acting Director, Bureau of Budget and Management Research, Office of the Governor, P.O. Box 2950, Agana, Guam 96932, Telephone: (671) 475-9411 or 9412, FAX: (671) 472-2825

PUERTO RICO

Ms. Elsa Luis, Director, Federal Proposals Division, 1100 17th Street, N.W., Suite 800, Washington, D.C. 20036, Telephone: (202) 778-0750, FAX: (202) 530-5559

NORTH MARIANA ISLANDS

Mr. Alvaro A. Santos, Executive Officer, Office of Management and Budget, Office of the Governor, Saipan, MP 96950, Telephone: (670) 664-2256, FAX: (670) 664-2272; Contact Person: Ms. Jacoba T. Seman, Federal Programs Coordinator, Telephone: (670) 664-2289, FAX: (670) 664-2272

VIRGIN ISLANDS*

Nellon Bowry, Director, Office of Management and Budget, #41 Norregade Emancipation Garden Station, Second Floor, Saint Thomas, Virgin Islands 00802; Please direct all questions and correspondence about intergovernmental review to: Linda Clarke, Telephone: (809) 774-0750, FAX: (809) 776-0069

Note: This list is based on the most current information provided by the States. Information on any changes or apparent errors should be provided to Sherron Duncan at the Office of Management and Budget (202) 395-3914 and to the State in question. Changes to the list will only be made upon formal notification by the State. The list is updated every six months and is also published biannually in the Catalog of Federal Domestic Assistance. The last changes made were to Delaware, Indiana, Missouri, New Mexico, Puerto Rico, Rhode Island, Utah, and Wisconsin.

*Guam and the Virgin Islands are not confirmed.

Empowerment Zones and Enterprise Communities

(As of January 13, 1999)

Empowerment Zones

California: Los Angeles, Oakland, Santa Ana, Riverside County*

Connecticut: New Haven +

Florida: Miami +

Georgia: Atlanta, Cordele* +

Illinois: Chicago, East St. Louis +, Ullin*

Indiana: Gary, East Chicago

Kentucky: Kentucky Highlands* (Clinton, Jackson, and Wayne Counties)

Maryland: Baltimore

Massachusetts: Boston +

Michigan: Detroit

Minnesota: Minneapolis +

Mississippi: Mid-Delta* (Bolivar, Holmes, Humphreys, LeFlore, Sunflower, Washington Counties)

Missouri/Kansas: Kansas City, Kansas City

Missouri: St. Louis +

New Jersey: Cumberland County

New York: Harlem, Bronx

North Dakota: Lake Agassiz*

Ohio: Cleveland, Cincinnati, Columbus +

Ohio/West Virginia: Ironton/Huntington +

Pennsylvania/New Jersey: Philadelphia/ Camden

South Carolina: Columbia/Sumter

South Dakota: Oglala Sioux Reservation in Pine Ridge*

Tennessee: Knoxville

Texas: Houston, El Paso +, Rio Grande Valley* (Cameron, Hidalgo, Starr, and Willacy Counties)

Virginia: Norfolk +/Portsmouth

Enterprise Communities

Alabama: Birmingham

Alabama: Chambers County*, Green County*, Sumter County*

Alaska: Juneau*

Arizona: Arizona Border* (Cochise, Santa Cruz and Yuma Counties), Phoenix, Window Rock*

Arkansas: East Central* (Cross, Lee, Monroe, and St. Francis Counties), Mississippi County*, Pulaski County

California: Imperial County*, Los Angeles, Huntington Park, San Diego, San Francisco, Bayview, Hunter's Point, Watsonville*, Orange Cove*

Colorado: Denver

Connecticut: Bridgeport, New Haven

Delaware: Wilmington

District of Columbia: Washington

Florida: Jackson County*, Miami, Dade County, Tampa, Immokalee*

Georgia: Albany, Central Savannah River* (Burke, Hancock, Jefferson, McDuffie, Tallafero, and Warren Counties), Crisp County*, Dooley County*

Hawaii: Kaunakakai*

Illinois: East St. Louis, Springfield

Indiana: Indianapolis, Austin*

Iowa: Des Moines

Kansas: Leoti*

Kentucky: Louisville, Bowling Green*

Louisiana: Macon Ridge* (Catahoula, Concordia, Franklin, Morehouse, and Tensas Parishes), New Orleans, Northeast Louisiana Delta* (Madison parish), Ouachita Parish

Maine: Lewiston*

Massachusetts: Lowell, Springfield

Michigan: Five Cap*, Flint, Muskegon, Harrison*

Minnesota: Minneapolis, St. Paul

Mississippi: Jackson, North Delta Area* (Panola, Quitman, and Tallahatchie Counties)

Missouri: East Prairie*, St. Louis

Montana: Poplar*

Nebraska: Omaha

Nevada: Clarke County, Las Vegas

New Hampshire: Manchester

New Jersey: Newark

New Mexico: Albuquerque, La Jicarita* (Mora, Rio Arriba, Taos Counties), Deming*

New York: Albany, Schenectady, Troy

New York: Buffalo, Rochester

New York: Newburgh, Kingston

North Carolina: Charlotte

North Carolina: Edgecombe, Halifax, Robeson, Wilson Counties*

Ohio: Akron, Columbus, Greater Portsmouth* (Scioto County)

Oklahoma: Choctaw, McCurtain Counties*, Oklahoma City, Ada*

Oregon: Josephine County*, Portland

Pennsylvania: Harrisburg, Lock Haven*, Pittsburgh, Uniontown*

Rhode Island: Providence

South Carolina: Charleston, Williamsburg, Florence County*, Hallandale*

South Dakota: Beadle, Spink Counties*

Tennessee: Fayette, Haywood Counties*, Memphis, Nashville, Rutledge*

Tennessee/Kentucky: Scott, McCreary Counties*

Texas: Dallas, El Paso, San Antonio, Waco, Uvalde*

Utah: Ogden

Vermont: Burlington

Virginia: Accomack (Northampton County)*, Norfolk

Washington: Lower Yakima County*, Seattle, Tacoma, Collie*

West Virginia: Charleston*, Huntington, McDowell County*, West Central Appalachia* (Braxton, Clay, Fayette, Nicholas, and Roane)

Wisconsin: Milwaukee, Keshena*

*Denotes rural designee.

+Also an Enterprise Community, Round One.

For further information consult the following Internet site: http://www.ezec.gov.

[FR Doc. 00-2813 Filed 2-7-00; 8:45 am]

BILLING CODE 4000-01-P